DEPARTMENT OF HOMELAND SECURITY

U.S. Customs and Border Protection

[Docket No. USCBP-2025-0027]

Commercial Customs Operations Advisory Committee

AGENCY: U.S. Customs and Border Protection (CBP), Department of Homeland Security (DHS).

ACTION: Notice of open Federal Advisory Committee meeting.

SUMMARY: The Commercial Customs Operations Advisory Committee (COAC) will hold its quarterly meeting on Wednesday, June 18, 2025, in Washington, DC. The meeting will be open to the public via webinar only.

DATES: The COAC will meet on Wednesday, June 18, 2025, from 1:00 p.m. to 5:00 p.m. Eastern Daylight Time (EDT). Please note the meeting may close early if the committee has completed its business. Comments must be submitted in writing no later than June 13, 2025, at 5:00 p.m. EDT.

ADDRESSES: The meeting will be open to the public via webinar only. The webinar link will be posted by 5:00 p.m. EDT on June 9, 2025, at https://www.cbp.gov/trade/stakeholder-engagement/coac/coac-public-meetings. For information or to request special assistance for the meeting, contact Mrs. Latoria Martin, Office of Trade Relations, U.S. Customs and Border Protection, at (202) 344-1440, as soon as possible.

Comments may be submitted by one of the following methods:

• Federal eRulemaking Portal: https://www.regulations.gov. Search for Docket Number USCBP-2025-0027. To submit a comment, click the “Comment” button located on the top-left hand side of the docket page.

• Email: tradeevents@cbp.dhs.gov. Include Docket Number USCBP-2025-0027 in the subject line of the message.

Comments must be submitted in writing no later than June 13, 2025, at 5:00 p.m. EDT and must be identified by Docket No. USCBP-2025-0027. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Ms. Lisa Beth M. Brown, Designated Federal Officer, at (202) 344-1440 or via email at tradeevents@cbp.dhs.gov.

SUPPLEMENTARY INFORMATION: Notice of this meeting is given under the authority of the Federal Advisory Committee Act, Title 5 U.S.C., ch. 10. The COAC provides advice to the Secretary of the Department of Homeland Security, the Secretary of the Department of the Treasury, and the Commissioner of U.S. Customs and Border Protection (CBP) on matters pertaining to the commercial operations of CBP and related functions within the Department of Homeland Security and the Department of the Treasury.

The COAC is committed to ensuring all participants have equal access regardless of disability status. If you require a reasonable accommodation due to a disability to fully participate, please contact Mrs. Latoria Martin at (202) 344-1440 as soon as possible.

Please feel free to share this information with other interested members of your organization or association.

To facilitate public participation, we are inviting public comments on the issues the committee will consider prior to the formulation of recommendations as listed in the Agenda section below.

There will be a public comment period after each subcommittee update during the meeting on June 18, 2025. During the meeting, comments may be submitted via the trade events mailbox at tradeevents@cbp.dhs.gov or through the Microsoft Teams chat feature. Please note the public comment period for speakers may end before the time indicated on the schedule that is posted on the CBP web page: http://www.cbp.gov/trade/stakeholder-engagement/coac.

Agenda

The COAC will hear from the current subcommittees on the topics listed below:

1. The Intelligent Enforcement Subcommittee will provide updates on the work completed and topics discussed in its working groups. The Antidumping/Countervailing Duty (AD/CVD) Working Group will provide updates regarding its work and discussions on importer compliance with AD/CVD and other trade remedy measures and requirements. The Intellectual Property Rights (IPR) Process Modernization Working Group will provide updates concerning progress associated with its proposed recommendations specific to IPR enforcement and facilitation. The Forced Labor Working Group (FLWG) will submit proposed recommendations for the committee's consideration and provide updates on continued discussions regarding trade outreach and clarification of requirements. In particular, the FLWG anticipates providing proposed recommendations regarding suggested updates to the “Uyghur Forced Labor Prevention Act (UFLPA) U.S. Customs and Border Protection Operational Guidance for Importers.”

2. The Next Generation Facilitation Subcommittee will provide updates on all of its working groups. The Automated Commercial Environment (ACE) Modernization (formerly ACE 2.0) Working Group will report on its discussions about trade priorities. The Broker Modernization Working Group (BMWG) remains focused on the enhancement of the end user experience and improving the administration of the Customs Broker License Exam (CBLE) and will provide updates. This quarter, the Modernized Entry Processes Working Group (MEPWG) continued its National Customs Automation Program (NCAP) discussions and will provide updates on its efforts concerning the reconciliation test. The MEPWG will also discuss areas where CBP could provide further guidance on the Broker Cybersecurity Incident Procedures in the form of Frequently Asked Questions. The Customs Interagency Industry Working Group (CIIWG) will discuss its resubmission, with supporting ACE records, of previous examples it provided to CBP of duplicative data elements scenarios currently required in ACE. The CIIWG also anticipates providing updates on the Global Business Identifier (GBI) program.

3. The Secure Trade Lanes Subcommittee will provide updates on five of its seven active working groups. The Export Modernization Working Group has met two times this quarter. The March meeting was a kickoff for 2025 to establish action items and priorities after the closure of the public comment period for the Rail Export notice of proposed rulemaking (NPRM). The April meeting focused on defining Progressive Filing and reviewing the finalized flowchart for Air Mode. The working group tasked members with another review of the previously submitted recommendations to identify any additions or revisions that may be needed. The Drawback Task Force has met twice this quarter and, in particular, continues its work on the list related to the error validations and the updates of the transmission codes for the ACE Document Image System (DIS). There is the potential for proposed recommendations this quarter regarding updates to the error dictionary, but more conversation is needed prior to presenting proposed recommendations to the full committee. The De Minimis Working Group met two times this past quarter. In these meetings, the discussion centered mostly around CBP's enforcement of the $800 limit per person per day and ACE processing of de minimis shipments per Executive Order 14256 (90 FR 14899, April 7, 2025). The De Minimis Working Group does not have any proposed recommendations for this public meeting. The Centers Working Group continues to evaluate its previously proposed recommendations and will determine whether any additional proposed recommendations may come from that review or from new topics that are discussed within the working group. The FTZ/Warehouse Working Group has completed its initial review of the foreign trade zone (FTZ) regulations (19 CFR part 146) and is continuing to review several sections of the regulations in particular. When the working group completes its review of the FTZ regulations, it intends to submit proposed recommendations for updates and changes to the regulations for the full committee's consideration; the working group will also review the bonded warehouse regulations, FTZ manual, and the Bonded Warehouse Manual. The Cross-Border Recognition Working Group has not met this quarter and remains on hiatus. The Trade Partnership and Engagement Working Group is focusing efforts on reviewing an updated handbook for Customs Trade Partnership Against Terrorism (CTPAT) Trade Compliance Program members as well as a review of the CTPAT Minimum Security Criteria to drive efficiency and eliminate redundancies in the program. The Pipeline Working Group did not meet this quarter and will not have any proposed recommendations at the upcoming meeting.

Meeting materials will be available on June 9, 2025, at: http://www.cbp.gov/trade/stakeholder-engagement/coac/coac-public-meetings.

Lisa Beth M. Brown,
Acting Executive Director, Office of Trade Relations.

[FR Doc. 2025-10227 Filed 6-3-25; 8:45 am]

BILLING CODE 9111-14-P